SMALL BUSINESS ADMINISTRATION

Privacy Act of 1974; Matching Program

AGENCY: U.S. Small Business Administration, Office of Government Contracting and Business Development.

ACTION: Notice of a New Matching Program.

SUMMARY: The United States Small Business Administration (SBA) and Department of Veteran Affairs (VA) pursuant to Section 862 of the National Defense Authorization Act for Fiscal Year 2021, Public Law 116-283, 134 Stat. 3388 (January 1, 2021), amended 38 U.S.C. 8127 and transferred the responsibility for certification of Veteran-Owned Small Businesses (VOSB) and Service-Disabled Veteran-Owned Small Businesses (SDVOSB) to SBA as of January 1, 2023 (Transfer Date).

The Computer Matching program seeks to ensure that applicants for SBA Veteran Small Business Certification Program are eligible as qualifying veterans. This will be accomplished by matching specific VA data with SBA data to determine what applicants and participants meet SBA's Veteran Small Business Certification Program criteria.

DATES: Submit comments on or before January 17, 2023. This new matching agreement will be effective upon publication with matching to start January 9, 2023, and expires 18 months from the date of publication, however, SBA projects termination of matching no later than July 10, 2023.

ADDRESSES: Inquiries and comments on this proposed matching program can be addressed to Larry Stubblefield, Associate Administrator, Office of Veterans Business Development, Larry.Stubblefield@sba.gov, ((202) 205-6572), Isabelle James, Senior Advisor, Office of the Administrator, Isabelle.James@sba.gov, and Jason Hoge, Acting Exec. Director, Product Engineering, Tel.: 612-725-4337 Email: jason.hoge@va.gov.

FOR FURTHER INFORMATION CONTACT: For general information, please contact: Ariel Nerbovig, Ariel.Nerbovig@sba.gov, IT Program Manager; Kelvin Moore, ((202) 921-6273), SBA Chief Information Security Officer, Office of the Chief Information Officer, SBA Chief Information Officer/Senior Agency Official for Privacy, Stephen Kucharski, Stephen.Kucharski@sba.gov, ((202) 205-7551) and VA Chief Information Security Officer, Lynette Sherrill: (202) 270-1878, lynette.sherrill@va.gov.

SUPPLEMENTARY INFORMATION: The Agreement between SBA and VA is expected to aid in the transition and identifying qualified veterans. VA maintains a list of veterans and service-disabled veterans and will provide SBA with this data. To accomplish this, VA and SBA will participate in a Computer Matching program to match data to identify what veterans are qualifying veterans and to verify eligibility for SBA's certification program. The average number of records being matched on an annual basis is 18,910.

Participating Agencies

U.S. Department of Veteran Affairs and U.S. Small Business Administration

Authority for Conducting the Matching Program

1. Section 862 of the National Defense Authorization Act for Fiscal Year 2021, Public Law 116-283, 134 Stat. 3388 (January 1, 2021) (NDAA 2021), amended 38 U.S.C. 8127 and transferred the responsibility for certification of VOSB and SDVOSB for VA procurements to SBA as of January 1, 2023 (Transfer Date). NDAA 2021 also amended Section 36 of the Small Business Act to create a certification requirement for SDVOSBs seeking sole source and set-aside contracts across the Federal Government.

2. Pursuant to section 862(b) of the NDAA 2021, VA shall verify an individual's status as a veteran or a service-disabled veteran and establish a system to permit SBA to access, but not alter, the verification of such status.

3. Pursuant to section 862(d) of the NDAA 2021, upon request by SBA, federal agencies shall provide data that SBA determines to be necessary to carry out the certification of a small business concern owned and controlled by veterans or service-disabled under sections 36 and 36A of the Small Business Act.

Purpose(s)

To be eligible for certification in SBA's Veteran Small Business Certification Program, an applicant's small business must be owned and controlled by one or more qualifying veterans. A “qualifying veteran” is a veteran as defined by 38 U.S.C. 101(2) or a service-disabled veteran. A service-disabled veteran is an individual that possesses either a valid disability rating letter issued by VA, establishing a service-connected rating between 0 and 100 percent, or a valid disability determination from the Department of Defense or is registered in the Beneficiary Identification and Records Locator Subsystem maintained by Department of Veterans Affairs' Veterans Benefits Administration as a service-disabled veteran. Reservists or members of the National Guard disabled from a disease or injury incurred or aggravated in line of duty or while in training status also qualify. VA maintains a list of veterans and service-disabled veterans and will provide SBA with this data. To accomplish this, VA and SBA will participate in a Computer Matching program to match data in order to identify what veterans are qualifying veterans and to verify eligibility for SBA's certification program.

Categories of Individuals

An applicant's small business must be owned and controlled by one or more qualifying veterans.

Categories of Records

Information relating to applicants' small business owned or controlled by veterans for certification.

Specific data elements to match from SBA are: Veteran Business Owner applicant's first name, last name, street address 1, street address 2, birth date, city, state, country, zip code, and optional elements: middle name and gender. VA will respond from match to SBA and return: Veteran's combined disability rating (disability rating and combined effective date); Service-connected determination (individual ratings, decision, effective date, and rating percentage; and Title 38 Veteran status data (veteran status). As of March 2023, VA will not give out social security numbers for new Veteran accounts. SSN will not be used in this match.

System(s) of Records

“Compensation, Pension, Education, and Vocational Rehabilitation and Employment Records—VA (58 VA 21/22/28)” last amended at 86 FR 61858 (November 8, 2021). “Veterans Affairs Profile—VA, (192VA30),” established at 87 FR 36207 (June 15, 2022). “Veterans Affairs/Department of Defense Identity Repository (VADIR)—VA (138VA005Q),” last amended at 74 FR 142 (July 27, 2009), is in the process of being republished. “Government Contracting and Business Development System”, SBA 30 system of records, as provided by 86 FR 19078. SBA is currently updating SBA 30 which will not impact this matching agreement.

Larry Stubblefield,
Associate Administrator, Office of Veterans Business Development, United State Small Business Administration.

[FR Doc. 2022-27158 Filed 12-14-22; 8:45 am]

BILLING CODE P